DEPARTMENT OF HOUSING AND URBAN DEVELOPMENT

[Docket No. FR-6442-N-01]

Fair Market Rents for the Housing Choice Voucher Program, Moderate Rehabilitation Single Room Occupancy Program, and Other Programs, Fiscal Year 2024; Revised

AGENCY: Office of the Assistant Secretary for Policy Development and Research, Department of Housing and Urban Development, HUD.

ACTION: Notice of Revised Fiscal Year (FY) 2024 Fair Market Rents (FMRs).

SUMMARY: This notice updates the FY 2024 FMRs for one area based on new survey data.

DATES: The revised FY 2024 FMRs for this one area are effective on March 11, 2024.

FOR FURTHER INFORMATION CONTACT: Adam Bibler, Director, Program Parameters and Research Division, Office of Economic Affairs, Office of Policy Development and Research, HUD Headquarters, 451 7th Street SW, Room 8208, Washington, DC 20410, Department of Housing and Urban Development, telephone (202) 402-6057. Questions related to use of FMRs or voucher payment standards should be directed to the respective local HUD program staff. For technical information on the methodology used to develop FMRs or a listing of all FMRs, please call the HUD USER information line at 800-245-2691 (toll-free), email the Program Parameters and Research Division via pprd@hud.gov, or access the information on the HUD USER website: http://www.huduser.gov/portal/datasets/fmr.html. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: On August 31, 2023, HUD published the FY 2024 FMRs, requested comments on the FY 2024 FMRs, and outlined procedures for requesting a reevaluation of an area's FY 2024 FMRs (88 FR 60223). This notice revises FY 2024 FMRs for one area based on data provided to HUD.

I. Revised FY 2024 FMRs

The updated FY 2024 FMRs appear in the following table. The FMRs are based on a survey conducted by the area public housing agencies (PHAs) and reflect the estimated 40th percentile rent levels trended to FY 2024.

The FMRs for the affected area are revised as follows:

2024 Fair Market Rent area | FMR by number of bedrooms in unit: 0 BR | FMR by number of bedrooms in unit: 1 BR | FMR by number of bedrooms in unit: 2 BR | FMR by number of bedrooms in unit: 3 BR | FMR by number of bedrooms in unit: 4 BR
Urban Honolulu, HI MSA | $1,668 | $1,824 | $2,388 | $3,365 | $4,052

HUD has published these revised FMR values on the HUD USER website at: http://www.huduser.gov/portal/datasets/fmr.html. In addition, HUD has updated the FY 2024 Small Area FMRs (SAFMRs) for metropolitan areas with revised FMRs, which can be found at https://www.huduser.gov/portal/datasets/fmr/smallarea/index.html. HUD has also updated the 50th percentile rents for all affected FMR areas, which are published at http://www.huduser.gov/portal/datasets/50per.html.

II. Environmental Impact

This notice involves the establishment of Fair Market Rent schedules and does not constitute a development decision affecting the physical condition of specific project areas or building sites. Accordingly, under 24 CFR 50.19(c)(6), this notice is categorically excluded from environmental review under the National Environmental Policy Act of 1969 (42 U.S.C. 4321).

Solomon Greene,
Principal Deputy Assistant Secretary for Policy Development and Research.

[FR Doc. 2024-02666 Filed 2-8-24; 8:45 am]

BILLING CODE 4210-67-P